DEPARTMENT OF AGRICULTURE

Submission for OMB Review; Comment Request

May 14, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Quarantine for Hawaii and United States Territories.

OMB Control Number: 0579-0198.

Summary of Collection: Under the Plant Protection Act (7 U.S.C. 7701-et seq.), the Secretary of Agriculture is authorized to prohibit or restrict the importation, entry, or movement of plants and plant products to prevent the introduction of plant pest into the United States or their dissemination within the United States. The Plant Protection and Quarantine, a program within the Animal and Plant Health Inspection Service (APHIS), is responsible for implementing the Act and does so through the enforcement of APHIS' Hawaiian and Territorial Quarantine Regulations, contained in Part 318 of Title 7, Code of Federal Regulations. Hawaiian and territorial quarantines are necessary to prevent the spread of dangerous plant diseases and pests. APHIS will collect information using forms PPQ 519, Compliance Agreement and PPQ 530, Limited Permit.

Need and Use of the Information: APHIS will collect information from a variety of individuals who are involved in growing, packing, handling, and transporting plants and plant products. The information collected will be used to determine compliance with regulations and for issuance of forms, permits, certificates, and other required documents.

Description of Respondents: Business or other for-profit; State, Local or Tribal Government.

Number of Respondents: 110.

Frequency of Responses: Reporting: On occasion.

Total Burden Hours: 3,096.

Animal and Plant Health Inspection Service

Title: CWD ELK Herd Certification Program.

OMB Control Number: 0579-0237.

Summary of Collection: The Animal Health Protection Act (AHPA) of 2002, is the primary Federal law governing the protection of animal health. The law gives the Secretary of Agriculture broad authority to detect, control, or eradicate pests or diseases of livestock or poultry. Disease prevention is the most effective method for maintaining a healthy animal population for enhancing the United States' ability to compete in the world market of animal and animal product trade. Chronic Wasting Disease (CWD) is a transmissible spongiform encephalopathy of elk, deer, and moose typified by chronic weight loss leading to death. The Animal and Plant Health Inspection Service (APHIS) is publishing an amended CWD final rule to create a cooperative, voluntary Federal-State-private sector CWD Herd Certification Program designed to actively identify farmed or captive herds infected with CWD and provide for the management of these herds in a way that will prevent further spread of CWD.

Need and Use of the Information: Implementing the program will require the following information collection activities: (1) A Memorandum of Understanding between APHIS and participating States by a request from the State; (2) A formal request to participate in the program; (3) A formal request to participate by State; (4) Wild Cervid Identification (for Interstate movement); (5) Farmed Cervid Identification; (6) Reporting of cervid escape, disappearances, and deaths; (7) Recordkeeping: Herd records including inventory; (8) Certificate and/or animal identification documents to move cervids interstate; (9) An appeal letter to contest a suspension from the program; (10) A herd or premises plan if CWD is discovered; and (11) Lab submission. Failing to collect this information would make it impossible for APHIS to launch its CWD Herd Certification Program, thereby hindering APHIS's ability to prevent and control the spread of CWD in the United States.

Description of Respondents: Business or other for-profit; State, Local or Tribal Government.

Number of Respondents: 2,300.

Frequency of Responses: Recording; Reporting: On occasion.

Total Burden Hours: 157,536.

Animal and Plant Health Inspection Service

Title: Importation of Peppers from Certain Central American Countries.

OMB Control Number: 0579-0274.

Summary of Collection: Under the Plant Protection Act (PPA) (7 U.S.C. 7701-7772), the Secretary of Agriculture is authorized to carry out operations or measures to detect, eradicate, suppress, control, prevent, or retard the spread of plant pests new to the United States or not known to be widely distributed throughout the United States. Regulations authorized by the PPA concerning the importation of fruits and vegetables into the United States from certain parts of the world are contained in “Subpart Fruits and Vegetables” (7 CFR 319.56 through 319.56-47). The Animal and Plant Health Inspection Service (APHIS) amended the fruits and vegetables regulations to allow certain type of peppers grown in approved registered production sites in Costa Rica, El Salvador, Guatemala, Honduras, and Nicaragua to be imported, under certain conditions, into the United States without treatment while continuing to provide protection against the introduction of quarantine pests into the United States.

Need and Use of the Information: The regulations require the use of information collection activities including inspections by Central American national plant protection organization officials, fruit fly trapping, monitoring, recordkeeping, box labeling, and phytosanitary certificate.

Description of Respondents: Not-for-profit institutions.

Number of Respondents: 245.

Frequency of Responses: Recordkeeping; Reporting: On occasion.

Total Burden Hours: 2,999.

Ruth Brown,
Departmental Information Collection Clearance Officer.

[FR Doc. 2012-11970 Filed 5-16-12; 8:45 am]

BILLING CODE 3410-34-P